DEPARTMENT OF THE INTERIOR

National Park Service

National Register of Historic Places; Notification of Pending Nominations

Nominations for the following properties being considered for listing in the National Register were received by the National Park Service before June 21, 2003.

Pursuant to section 60.13 of 36 CFR part 60 written comments concerning the significance of these properties under the National Register criteria for evaluation may be forwarded by United States Postal Service, to the National Register of Historic Places, National Park Service, 1849 C St., NW., 2280, Washington, DC 20240; by all other carriers, National Register of Historic Places, National Park Service, 1201 Eye St. NW, 8th floor, Washington DC 20005; or by fax, 202-371-6447. Written or faxed comments should be submitted by August 2, 2003.

Carol D. Shull,
Keeper of the National Register of Historic Places.

FLORIDA

Indian River County

Jungle Trail, Bet. Old Winter Bch Rd. and FL A-1-A on Orchid Island, Orchid, 03000700

Palm Beach County

Osborne School, (Florida's Historic Black Public Schools MPS) 1718 S. Douglas St., Lake Worth, 03000701

Volusia County

DeLeon Springs Colored School, (Florida's Historic Black Public Schools MPS) 330 E. Retta St., DeLeon Springs, 03000702

Orange City Colored School, (Florida's Historic Black Public Schools MPS) 200 E. Blue Springs Ave., Orange City, 03000703

GEORGIA

Bleckley County

Cochran Municipal Building and School, Jct. of Dykes St. and Second St., Cochran, 03000704

KANSAS

Barton County

Wolf Park Band Shell, Lots 12 and 13, Block 2, 200 Blk of N. Main, Ellinwood, 03000706

Douglas County

Vinland Presbyterian Church, 697 E. 1725 Rd., Baldwin, 03000707

KENTUCKY

Allen County

Big Spring School—Oliver Farmstead, 3293 and 3109 Big Springs Rd., Settle, 03000712

Clinton County

Noland, Jesse, House, RR1 KY 969, Albany, 03000711

Fulton County

Fulton Downtown Historic District, Park of Carr, Commercial, Lake, Main and Walnut Sts., Fulton, 03000710

Jefferson County

Howard—Hardy House, 429 S. Second St., Louisville, 03000709

Ohio County

Rosine General Store and Barn, 8205 Blue Moon of KY—US 62, Rosine, 03000708

LOUISIANA

Tangipahoa Parish

Tangipahoa School, Jct. of Jackson and Tarpley Sts., Tangipahoa, 03000705

MISSOURI

Barry County

Cassbille Ranger Station Historic District, (Mark Twain National Forest MPS) MO 248, Cassville, 03000716

Douglas County

Ava Ranger Station Historic District, (Mark Twain National Forest MPS) MO 5S, Ava, 03000714

Phelps County

Rolla Ranger Station Historic District, (Mark Twain National Forest MPS) Bridge School Road and Kingshighway, Rolla, 03000717

Shannon County

Winona Ranger Station Historic District, (Mark Twain National Forest MPS) Rte 1, MO 19N, Winona, 03000715

Texas County

Houston Ranger Station Historic District, (Mark Twain National Forest MPS) 104 MO 63S, Houston, 03000713

NEW YORK

Wyoming County

Letchworth State Park, Genesee River Gorge Bet. Portageville and Mt. Morris, Genesse Falls, 03000718

OHIO

Lawrence County

Miller—Knight House, 2 Township Rd. 1046, Miller, 03000720

Summit County

Main—Market Historic District, 15-47 N. Main St., 1-39 S. Main St., 39-168 E. Market St., 18-42 N. High St., 70 Broadway St., Akron, 03000719

PENNSYLVANIA

Luzerne County

St. John the Evangelist Roman Catholic Church and School Building, 419 N. Main St., Wilkes-Barre, 03000721

Montgomery County

Jefferson Elementary School, Beech and Warren Sts., Pottstown, 03000723

Philadelphia County

Class and Nachod Brewery, 1801-1823 N. 10th St., Philadelphia, 03000724

General Stores and Mold Loft Building—Harriman Yard of the Merchant Shipbuilding Corporation, 1414 Radcliffe St., Bristol Borough, 03000722

N. Sneilenburg Company Department Store Warehouse, 1825-1851 N. 10th St., Philadelphia, 03000725

TENNESSEE

Davidson County

West End High School, 3529 West End Ave., Nashville, 03000726

TEXAS

Hunt County

Mayo Hall, Monroe and Stonewall Sts., Commerce, 03000727

A request for REMOVAL has been made for the following resource:

KENTUCKY

Hart County

Battle of Munfordville, (Boundary Increase) (Munfordville MRA), Mostly W of U.S. 31W near Munfordville, Munfordville vicinity, 01001254

[FR Doc. 03-18206 Filed 7-17-03; 8:45 am]

BILLING CODE 4312-51-P